DEPARTMENT OF ENERGY

Federal Energy Regulatory Commission

[Docket No. EL01-56-000]

Niagara Mohawk Holdings, Inc. and National Grid USA; Notice of Filing

March 23, 2001.

Take notice that on February 1, 2001, as part of their merger application in Docket No. EC01-63-000, Niagara Mohawk Holdings, Inc. and National Grid USA (Applicants) also seek Commission authorization for various accounting matters related to the merger. These accounting authorizations are the subject of the request for declaratory order that is assigned Docket No. EL01-56-000. Specifically, Applicants seek Commission authorization to pay as dividends from paid-in capital accounts, preexisting retained earnings that will have been restated as paid-in capital as a result of accounting conventions associated with the merger. Also, Applicants seek authorization to calculate earnings available for dividends by adding back the related amortization of the acquisition premium and transaction costs as well as non-cash charges to income resulting from accounting changes or charges to income resulting from significant unanticipated events. Finally, Applicants request authorization for Niagara Mohawk Power Corporation to transfer revenues from major transactions (such as asset sales, divestiture, or securitization) to its parent.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before April 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Comments, protests and interventions may be filed electronically via the internet in lieu of paper. See, 18 CFR 385.2001(a)(1)(iii) and the instructions on the Commission's web site at ­ http://www.ferc.fed.us/efi/doorbell.htm.

David P. Boergers,
Secretary.

[FR Doc. 01-7715 Filed 3-28-01; 8:45 am]

BILLING CODE 6717-01-M